DEPARTMENT OF LABOR

Employment and Training Administration

[TA-W-39,255]

Potlatch Corporation, Honeywell Corporation, Minnesota Pulp and Paper Division, Brainerd, MN; Amended Certification Regarding Eligibility To Apply for Worker Adjustment Assistance

In accordance with Section 223 of the Trade Act of 1974 (19 USC 2273) the Department of Labor issued a Certification of Eligibility To Apply for Worker Adjustment Assistance on February 20, 2002, applicable to workers of Potlatch Corporation, Minnesota Pulp and Paper Division, Brainerd, Minnesota. The notice was published in the Federal Register on February 28, 2002 (67 FR 9325).

At the request of the State agency, the Department reviewed the certification for workers of the subject firm. The workers are engaged in the production of high line coated printed paper.

New information shows that some workers separated from employment at the subject firm had their wages reported under a separate unemployment insurance (UI) tax account for Honeywell Corporation.

Accordingly, the Department is amending the certification to properly reflect this matter.

The intent of the Department's certification is to include all workers of Potlatch Corporation, Minnesota Pulp and Paper Division, Brainerd, Minnesota who were adversely affected by increased imports.

The amended notice applicable to TA-W-39,255 is hereby issued as follows:

All workers of Potlatch Corporation, Honeywell Corporation, Minnesota Pulp and Paper Division, Brainerd, Minnesota, who became totally or partially separated from employment on or after May 1, 2000, through February 20, 2004, are eligible to apply for adjustment assistance under Section 223 of the Trade Act of 1974.

Signed at Washington, DC this 16th day of July, 2002.
Linda G. Poole,
Certifying Officer, Division of Trade Adjustment Assistance.

[FR Doc. 02-18644 Filed 7-23-02; 8:45 am]

BILLING CODE 4510-30-P